DEPARTMENT OF HEALTH AND HUMAN SERVICES

Administration for Community Living

Availability of Program Application Instructions for the State Health Insurance Assistance Program (SHIP) Base Grant for the Commonwealth of the Northern Mariana Islands

Title: State Health Insurance Assistance Program: Base Grant Application for the Commonwealth of the Northern Mariana Islands.

Announcement Type: Initial.

Funding Opportunity Number: HHS-2020-ACL-CIP-SAPG-0363.

Statutory Authority: Section 4360 of the Omnibus Budget Reconciliation Act of 1990 (42 U.S.C. 1395b-4) and Title II of the Consolidated Appropriations Act, 2014.

Catalog of Federal Domestic Assistance (CFDA) Number: 93.324.

DATES: The deadline date for the submission of the application is 11:59 p.m. ET on April 3, 2023.

I. Funding Opportunity Description

The SHIP mission is to empower, educate, and assist Medicare-eligible individuals, their families, and caregivers through objective outreach, counseling, and training, to make informed health insurance decisions that optimize access to care and benefits. The purpose of the SHIP Base Grant is to strengthen the capability of states and territories to support a community-based, local network of SHIP offices that provide personalized counseling, education, and outreach to help achieve the program's mission.

The applicant of this funding opportunity must demonstrate how the funds will be used to enhance the SHIP program structure through counselor development, training activities, outreach efforts, and partnership building so that the states Medicare Beneficiaries are served. Funds are to be used to support locally accessible counseling services and efforts to meet the below identified SHIP Strategic Program Themes and objectives.

The SHIP vision is to be the known and trusted community resource for Medicare information. Four strategic themes provide support for that vision. They are: (1) Service Excellence, (2) Capacity Building, (3) Operational Excellence, and (4) Innovation. Within each theme are a series of goals and objectives that can be used to achieve the overall vision for the project.

There are currently 54 active SHIP grants; one in every state, the District of Columbia, Puerto Rico, Guam, and the U.S. Virgin Islands. The funds awarded through this application are for the Commonwealth of the Northern Mariana Islands to establish and implement the SHIP program. The project period will run April 1, 2023 through March 31, 2025. Eligible applicants include the State Office of Insurance, the State Medicaid Office, or the State Department on Aging as designated by the Commonwealth of the Northern Mariana Islands, who demonstrate their ability and commitment to providing SHIP services statewide.

II. Award Information

1. Funding Instrument Type

This award will be made in the form of a cooperative agreement.

2. Anticipated Total Funding per Budget Period

Funding will be distributed through a formula as identified in the statute. The amounts allocated are based upon factors defined in the statute and will be distributed based on the formula. ACL will fund a project period of up to two (2) years contingent upon the availability of federal funds. The applicant for the Commonwealth of the Northern Mariana Islands is eligible for $50,000 for the first budget period of this project.

III. Eligibility Criteria and Other Requirements

1. Eligible Applicants: Eligible applicants include State Units on Aging (SUA), State Departments of Insurance (DOI), or the State Medicaid Agency, as directed by the state Governor.

2. Cost Sharing or Matching is not required.

3. Unique Entity ID: All grant applicants must obtain and keep current a Unique Entity ID (UEI). On April 4, 2022, the unique entity identifier used across the federal government changed from the DUNS Number to the Unique Entity ID (generated by SAM.gov). The Unique Entity ID is a 12-character alphanumeric ID assigned to an entity by SAM.gov. The UEI is viewable in your SAM.gov entity registration record.

4. Intergovernmental Review: Executive Order 12372, Intergovernmental Review of Federal Programs, is not applicable to these grant applications.

IV. Submission Information

1. Application Instructions

Application Instructions are available via email. Contact Margaret Flowers at Margaret.flowers@acl.hhs.gov.

2. Submission Dates and Times

To receive consideration, applications must be submitted by 11:59 p.m. Eastern Time on April 3, 2023 via email to Margaret Flowers at Margaret.flowers@acl.hhs.gov.

VII. Agency Contacts

Direct inquiries regarding programmatic issues to: Margaret Flowers, Phone: 202.795.7315, Email: Margaret.Flowers@acl.hhs.gov.

Dated: January 26, 2023.
Alison Barkoff,
Acting Administrator and Assistant Secretary for Aging.

[FR Doc. 2023-02017 Filed 1-31-23; 8:45 am]

BILLING CODE 4154-01-P